DEPARTMENT OF THE INTERIOR

National Park Service

[2253-665]

Notice of Intent To Repatriate Cultural Items: USDA Forest Service, Coconino National Forest, Flagstaff, AZ

AGENCY: National Park Service, Interior.

ACTION: Notice.

SUMMARY: The USDA Forest Service, Coconino NF, in consultation with the appropriate Indian tribe, has determined that the cultural items meet the definition of unassociated funerary objects and repatriation to the Indian tribe stated below may occur if no additional claimants come forward. Representatives of any Indian tribe that believes itself to be culturally affiliated with the cultural items may contact the USDA Forest Service, Southwestern Region.

DATES: Representatives of any Indian tribe that believes it has a cultural affiliation with the cultural items should contact the USDA Forest Service, Southwestern Region at the address below by March 7, 2012.

ADDRESSES: Dr. Frank E. Wozniak, NAGPRA Coordinator, Southwestern Region, USDA Forest Service, 333 Broadway Blvd. SE., Albuquerque, NM 87102, telephone (505) 842-3238.

SUPPLEMENTARY INFORMATION: Notice is here given in accordance with the Native American Graves Protection and Repatriation Act (NAGPRA), 25 U.S.C. 3005, of the intent to repatriate cultural items under the control of the Coconino National Forest that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the early 1930s, 12 unassociated funerary objects were removed from San Francisco Mt:11:2(GP) in the Coconino National Forest, Coconino County, AZ, during archeological excavations conducted by the Gila Pueblo Foundation (a private archeological research facility formerly located in Globe, AZ). In the early 1950s, the Gila Pueblo Foundation closed and the collection became in the physical custody of the Arizona State Museum (ASM), Tucson, AZ. The 12 unassociated funerary objects are: 7 projectile points, 4 bone whistles and 1 spindle whorl.

Based on the ceramic collection, San Francisco Mt:11:2(GP) has been identified as a small Northern Sinagua residential site. The ceramic seriation suggests the site was occupied in the 11th and/or 12th centuries. Records at ASM indicate that these 12 cultural items were removed from a burial context and that the human remains were either left in the ground or are not locatable at the present time.

In the early 1930s, one unassociated funerary object, a miniature bowl, was removed from the Coconino National Forest at the Picture Canyon Site [San Francisco Mt:14:1(GP)] in Coconino County, AZ, during archeological excavations conducted by the Gila Pueblo Foundation. Since the early 1950s, the object has been in the physical custody of ASM.

Based on the ceramic collection, Picture Canyon Site has been identified as a small Northern Sinagua residential site. The ceramic seriation suggests the site was occupied in the 11th and/or 12th centuries. Records at ASM indicate that the single cultural item was removed from a burial context and that the human remains were either left in the ground or are not locatable at the present time.

In the early 1930s, 909 unassociated funerary objects were removed from the Coconino National Forest at the New Caves Site [San Francisco Mt:14:5(GP)] in Coconino County, AZ, during archeological excavations conducted by the Gila Pueblo Foundation. Since the early 1950s, the objects have been in the physical custody of ASM. The 909 unassociated funerary objects are: 1 shell bracelet; 1 shell necklace; 1 shell trumpet; 862 shell beads; 2 ceramic pitchers; 2 ceramic ladles; 1 ceramic canteen; 21 ceramic bowls; 7 ceramic jars; 1 sherd disc; 1 stone disc; 5 projectile points; 3 stone artifacts and 1 bone awl.

Based on the ceramic collection, material culture and architecture, the New Caves Site has been identified as a large Northern Sinagua residential site. The ceramic seriation suggests the site was occupied between the 13th and 14th centuries A.D. Records at ASM indicate that the 909 cultural items were removed from a burial context and that the human remains were either left in the ground or are not locatable at the present time.

In 1928 and 1929, 812 unassociated funerary objects were removed from the Coconino National Forest at the Turkey Hill Pueblo Site [AZ I:14:1 (ASM)] during archeological excavations conducted by Dr. Byron Cummings of the University of Arizona. Since removal, this collection has been stored at ASM. The 812 unassociated funerary objects are: 24 ceramic jars; 91 ceramic bowls; 8 ceramic pitchers; 9 ceramic ladles; 1 ceramic mug; 1 ceramic rattle; 1 ceramic scoop; 1 ceramic dipper; 1 ceramic boot pot; 1 ceramic sherd; 11 pendants; 639 beads; 1 button; 4 awls; 1 piece of petrified wood; 1 piece of pigment; 1 turquoise necklace; 2 shell necklaces; 1 shell bracelet; 1 shell trumpet; 1 shell artifact; 1 bone needle; 1 bone hairpin; 1 bone knife; 5 stone knives; 1 stone hammer; and 2 macaw bones.

Based on the ceramic collections, material culture and architecture, the Turkey Hill Site has been identified as a large Northern Sinagua Pueblo Site. Ceramic seriation suggests the Site was occupied between the 13th and 14th centuries A.D. The records at ASM indicate that the 812 cultural items were removed from a burial context and that the human remains were either left in the ground or are not locatable at the present time.

In 1928 or 1929, one unassociated funerary object, a piece of azurite, was removed from an unidentified archeological site in the Coconino National Forest near the Turkey Hill Pueblo in Coconino County, AZ. The azurite was removed during archeological excavations conducted by Dr. Byron Cummings of the University of Arizona and was curated at ASM.

Based on the ceramic items from the site (none of which are funerary objects), the site has been identified as Northern Sinagua. Ceramic seriation suggests the site was occupied in the 13th and/or 14th centuries. The records at ASM indicate that the single cultural item was removed from a burial context and that the human remains were either left in the ground or are not locatable at the present time.

In 1928 or 1929, three unassociated funerary objects were removed from an unidentified archeological site in the Coconino National Forest near the Winona Village complex [AZ 1:15:1 (ASM)] in Coconino County, AZ. These items were removed during archeological excavations conducted by Dr. Byron Cummings of the University of Arizona and curated at ASM. The three unassociated funerary objects are ceramic bowls.

Based on the ceramic items from the site and its association with the Winona Village complex (pithouse villages), the site has been identified as Northern Sinagua. Ceramic seriation suggests the site was occupied in the late 11th and/or early 12th centuries. The records at ASM indicate that the three cultural items were removed from a burial context and that the human remains were either left in the ground or are not locatable at the present time.

In the early 1930s, one unassociated funerary object, a ceramic bowl, was removed from the Coconino National Forest near San Francisco Mt:15:4(GP) in Coconino County, AZ, during archeological excavations conducted by the Gila Pueblo Foundation. Since the early 1950s, the object has been in the physical custody of ASM.

Based on the ceramic collection, San Francisco Mt: 15:4(GP) has been identified as a small Northern Sinagua residential site. The ceramic seriation suggest the site was occupied in the 11th and/or 12th centuries. Records at ASM indicate that the one cultural item was removed from a burial context and that the human remains were either left in the ground or are not locatable at the present time.

Based on archeological evidence and material culture, the sites listed above have been identified as Northern Sinagua sites. Continuities of ethnographic materials indicate the affiliation of Northern Sinagua sites in the Flagstaff area of north central Arizona with the Hopi Tribe, Arizona. Oral traditions presented by representatives of the Hopi Tribe support their claims of cultural affiliation with Northern Sinagua sites in this portion of north central Arizona.

Determinations Made by the USDA Forest Service, Southwestern Region

Officials of the USDA Forest Service, Southwestern Region and the Coconino National Forest have determined that

• Pursuant to 25 U.S.C. 3001(3)(B), the 1,739 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe, Arizona.

Additional Requestors and Disposition

Representatives of any other Indian tribe that believes itself to be culturally affiliated with the unassociated funerary objects should contact Dr. Frank E. Wozniak, NAGPRA Coordinator, Southwestern Region, USDA Forest Service, 333 Broadway Blvd. SE., Albuquerque, NM 87102, telephone (505) 842-3238 before March 7, 2012. Repatriation of the unassociated funerary objects to the Hopi Tribe, Arizona may proceed after that date if no additional claimants come forward.

The Coconino National Forest is responsible for notifying the Hopi Tribe, Arizona that this notice has been published.

Dated: January 31, 2012.
Sherry Hutt,
Manager, National NAGPRA Program.

[FR Doc. 2012-2530 Filed 2-3-12; 8:45 am]

BILLING CODE 4312-50-P